DEPARTMENT OF AGRICULTURE

Forest Service

Big Piney Ranger District and Greys River Ranger District; Bridger-Teton National Forest; Wyoming, Dell Creek and Forest Park Elk Feedgrounds: Long-Term Special Use Permits

AGENCY: Forest Service, Agriculture (USDA).

ACTION: Notice of intent to prepare an environmental impact statement.

SUMMARY: The Bridger-Teton National Forest (BTNF) is preparing an Environmental Impact Statement (EIS) for the Dell Creek and Forest Park Feedgrounds: Long-Term Special Use Permit project. The Wyoming Game and Fish Commission (WGFC) has applied for continued use of facilities on National Forest System lands to conduct their elk management activities, including providing hay to wintering elk at Dell Creek and Forest Park feedgrounds between mid-November and the end of April. The Dell Creek feedground is in the Big Piney Ranger District on Dell Creek Road (Forest Service Road 30600) about 4 miles east of Highway 191/189, in Bondurant, Wyoming, and has been maintained by the WGFC under a Forest Service special use permit since 1975. The Forest Park feedground is in the Greys River Ranger District along the Greys River Road (Forest Service Road 10138) about 33 miles from Alpine, Wyoming, and has been maintained by the WGFC under a Forest Service special use permit since 1979. The Forest Service action is to determine whether to authorize the requested long-term use and if so, under what conditions.

DATES: Comments concerning the scope of the analysis must be received by February 14, 2022. The draft environmental impact statement is expected January 2023 and the final environmental impact statement is expected January 2024.

ADDRESSES: Scoping comments can be submitted electronically through the project web page or directly to https://cara.ecosystem-management.org/Public//CommentInput?Project=60949. Comments may also be mailed to P.O. Box 1888, Jackson, WY 83001, or sent via facsimile to 307-739-5010.

FOR FURTHER INFORMATION CONTACT: Visit the project web page at https://www.fs.usda.gov/project/?project=60949 for current information. A public meeting will be held virtually during the comment period to share information about the project. For additional information contact Mary Cernicek, Planning and Public Affairs Staff Officer by email at mary.cernicek@usda.gov or by phone at 307-739-5564 or cellphone 307-413-2481. Individuals who use telecommunication devices for the deaf/hard-of-hearing (TDD) may call the Federal Relay Service (FRS) at 1-800-877-8339, 24 hours a day, every day of the year, including holidays.

SUPPLEMENTARY INFORMATION:

Purpose and Need for Action

The Forest Service received a request from the WGFC to continue to use facilities at Dell Creek and Forest Park feedgrounds to conduct their elk winter feeding and related management activities. Under 36 Code of Federal Regulations (CFR) 251.50, authorization is required for this type of special use of National Forest System lands. The purpose of the WGFC's proposal is to prevent conflicts with nearby livestock operations including reduce the risk of brucellosis transmission, maintain elk population objectives pursuant to the interests of their constituents and without excessive winter elk mortality, and prevent vehicle collisions on Highway 191. The purpose of the federal action is to decide whether to approve the WGFC's request and, if so, under what conditions to continue to permit the use. As part of the federal action, the Forest Service must ensure that the decision complies with the BTNF Land and Resource Management Plan (Forest Plan), Forest Service regulations and policies, and other applicable direction. Pertinent direction in the Forest Plan includes but is not limited to: An objective to “[p]rovide suitable and adequate habitat to support the game and fish populations established by the Wyoming Game and Fish Department, as agreed to by the Forest Service” (Objective 2.1(a)); and to “[h]elp re-establish historic elk migration routes to provide increased viewing and hunting opportunities for outfitters and clients” (Objective 1.1(g)). The need for the federal action is to respond to the WGFC's application as required under 36 CFR 251.50. In addition, the need for the federal action is to address any gaps between desired and existing conditions at Dell Creek and Forest Park feedgrounds associated with disease (including brucellosis and chronic wasting disease), elk habitat, recreation opportunities (hunting and wildlife viewing), and the condition of soil, vegetation, riparian areas, and associated fish and wildlife.

Proposed Action

The WGFC's proposal is to continue long-term use (20 years) of the Dell Creek feedground (35 acres), Forest Park feedgound (100 acres), and existing facilities for their winter elk management program. Hay would be distributed from horse-drawn sleighs daily between November 15th and April 30th, depending on winter conditions. The WGFC would maintain and operate existing facilities necessary for their ongoing winter elk management activities including: Hay storage sheds, fenced stackyard, corrals, elk traps, fencing, 0.25 mile of road, bridge, cabin, spring development, water well and portable tack shed. No new construction would be permitted. Winter elk management activities would include, but are not limited to, feeding, capturing, collaring, vaccinating and testing elk, and removing seropositive elk from the population.

Preliminary Alternatives

Three preliminary alternatives, in addition to the proposed action, have been identified. (1) No Special Use Authorization Alternative: Use of National Forest System lands for WGFC's winter elk management activities would not be permitted at Dell Creek and Forest Park feedgrounds. WGFC would remove the existing facilities and re-habilitate impacts at both locations. (2) Phase-Out Alternative: Use of National Forest System lands for WGFC's winter elk management activities would be permitted at Dell Creek and Forest Park feedgrounds for less than 20 years. The number of days elk would be fed would decrease over time. Upon expiration of the permit, use of National Forest System lands for WGFC's winter elk management activities would be terminated and WGFC would remove the existing facilities and re-habilitate impacts at both locations. (3) Emergency Feeding Only Alternative: Use of National Forest System lands for WGFC's winter elk management activities would be permitted at Dell Creek and Forest Park feedgrounds for emergency use only. Upon expiration of the permit, use of National Forest System lands for WGFC's winter elk management activities would be terminated and WGFC would remove the existing facilities and re-habilitate impacts at both locations. Alternatives will be developed based on comments received and issues identified.

Expected Impacts

The effect of the Forest Service authorizing the WGFC's occupancy of Dell Creek and Forest Park feedgrounds and use of associated facilities would be that the WGFC utilizes these feedgrounds to implement their elk management program. Under the WGFC's elk management program, supplemental winter feeding increases over-winter elk survival by maintaining body condition. Winter feeding of elk reduces transmission of diseases to livestock, such as brucellosis, by reducing commingling of wintering elk and livestock. The continuation of feedground operations may increase elk mortality by increasing the prevalence of chronic wasting disease in the elk herds that use the feedgrounds. Conversely, terminating elk winter feeding may reduce elk winter survival. A decrease in the health and population size of elk herds would negatively impact hunting and wildlife viewing opportunities.

Lead and Cooperating Agencies

Forest Service is the lead agency and Wyoming Game and Fish Department, Wyoming Department of Agriculture, and U.S. Geological Survey are cooperating agencies.

Responsible Official

The responsible official is the Forest Supervisor of the Bridger-Teton National Forest, Patricia O'Connor.

Scoping Comments and the Objection Process

This notice of intent initiates the scoping process, which guides the development of the environmental impact statement. In this process the Agency is requesting comments on potential alternatives and impacts, and identification of any relevant information, studies or analyses of any kind concerning impacts affecting the quality of the human environment.

It is important that reviewers provide their comments at such times and in such manner that they are useful to the agency's preparation of the environmental impact statement. Therefore, comments should be provided prior to the close of the comment period and should clearly articulate the reviewer's concerns and contentions. Commenting during scoping and any other designated opportunity to comment provided by the Responsible Official will also establish standing to object once the notice of the final EIS and draft Record of Decision has been published in the newspaper of record. Comments received in response to this solicitation, including names and addresses of those who comment, will be part of the public record for this proposed action. Comments submitted anonymously will be accepted and considered, however, they will not be used to establish standing for the objection process.

Permits Required

A Forest Service special use permit would be required to authorize WGFC's use of facilities at Dell Creek and Forest Park feedgrounds to conduct their elk winter feeding and related management activities.

Nature of Decision To Be Made

The Forest Service is to decide whether to reauthorize the WGFC long-term use of Dell Creek and Forest Park feedgrounds and associated facilities to conduct their elk management activities, and if so, under what conditions.

Dated: January 7, 2022.
Barnie Gyant,
Associate Deputy Chief, National Forest System.

[FR Doc. 2022-00700 Filed 1-13-22; 8:45 am]

BILLING CODE 3411-15-P